DEPARTMENT OF ENERGY

Federal Energy Regulatory Commission

Notice of Settlement Agreement, Amendment of License, and Soliciting Comments, Motions to Intervene, and Protests

November 22, 2000.

Take notice that the following Settlement Agreement and Amendment of License has been filed with the Commission and is available for public inspection:

a. Application Type: Settlement Agreement and Amendment of License.

b. Project No.: 2114-003.

c. Date Filed: September 13, 2000.

d. Applicant:: Public Utility District No. 2 of Grant County, WA.

e. Name of Project: Priest Rapids Hydroelectric Project.

f. Location: On the Columbia River, in Grant, Yakima, Kittitas, Douglas, Benton, and Chelan counties, Washington. The project occupies federal lands managed by the U.S. Bureau of Land Management, U.S. Bureau of Reclamation, U.S. Department of Energy, U.S. Department of the Army, and U.S. Fish and Wildlife Service.

g. Filed Pursuant to: Rule 602 of the Commission's Rules of Practice and Procedure, 18 CFR 385.602 (2000) and the Federal Power Act, 16 U.S.C. 791(a)-825(r).

h. Applicant Contact: Don Godard, Public Utility District No. 2 of Grant County, WA, P.O. Box 878, Ephrata, WA, 98823; (509) 754-3541.

i. FERC Contact: Bob Eaton (202) 219-2782, Email: robert.easton@ferc.fed.us

j. Deadline Dates: Comments are due December 29, 2000; reply comments are due January 16, 2001.

k. All documents (original and eight copies) should be filed with: David P. Boergers, Secretary, Federal Energy Regulatory Commission, 888 First Street, NE, Washington, DC 20426. Comments and protests may be filed electronically via the internet in lieu of paper. See, 18 CFR 385.2001(a)(1)(iii) and the instructions on the Commission's web site at http://www.ferc.fed.us/efi/doorbell.htm.

The Commission's Rules of Practice and Procedure require all intervenors filing documents with the Commission to serve a copy of that document on each person on the official service list for the project. Further, if an intervenor files comments or documents with the Commission relating to the merits of an issue that may affect the responsibilities of a particular resource agency, they must also serve a copy of the document on that resource agency.

l. Description of Filing: Public Utility District No. 2 of Grant County, WA, filed a Settlement Agreement on behalf of itself and the National Marine Fisheries Service, Colville Confederated Indian Tribe, Columbia River Inter-Tribal Fish Commission, Confederated Tribes and Bands of the Yakima Nation, Confederated Tribes of the Umatilla Indian Reservation, U.S. Fish and Wildlife Service, Washington Department of Fish and Wildlife, and American Rivers. The purpose of the Settlement Agreement is to resolve among the signatories issues related to operation of the project in regard to spill flows and their effect on downstream fish passage. Approval of the Settlement Agreement by the Commission would require amendment of the license; therefore, the applicant's submission also serves as a request for license amendment. Comments and reply comments on the Settlement Agreement and Amendment of License are due on the dates listed in item j above.

m. Copies of the Settlement Agreement and amendment application are available for inspection and reproduction at the Commission's Public Reference Room, located at 888 First Street, NE, Room 2A, Washington, DC 20426, or by calling (202) 208-1371. This filing may be viewed on http://www.ferc.fed.us/online/rims.htm (call 202-208-2222 for assistance) or at the address listed in item h above.

n. Individuals desiring to be included on the Commission's mailing list should so indicate by writing to the Secretary of the Commission.

Anyone may submit comments, a protest, or a motion to intervene in accordance with the requirements of Rules of Practice and Procedure, 18 CFR 385.210, .211, .214. In determining the appropriate action to take, the Commission will consider all protests, or other comments filed, but only those who file a motion to intervene in accordance with the Commission's Rules may become a party to the proceeding. Any comments, protests, or motions to intervene must be received on or before the specified comment date for the particular application.

Any filings must bear in all capital letters the title “COMMENTS,” “RECOMMENDATIONS FOR TERMS AND CONDITIONS,” “PROTEST,” or “MOTION TO INTERVENE,” as applicable, and the Project Number of the particular application to which the filing refers. A copy of any motion to intervene must also be served upon each representative of the Applicant specified in the particular application.

Federal, state, and local agencies are invited to file comments on the described application. A copy of the application may be obtained by agencies directly from the applicant. If an agency does not file comments within the time specified for filing comments, it will be presumed to have no comments. One copy of an agency's comments must also be sent to the Applicant's representatives.

David P. Boergers,
Secretary.

[FR Doc. 00-30347 Filed 11-28-00; 8:45 am]

BILLING CODE 6717-01-M